ENVIRONMENTAL PROTECTION AGENCY

40 CFR Part 52

[EPA-R01-OAR-2007-0401; FRL-8496-6]

Approval and Promulgation of Air Quality Implementation Plans; Massachusetts; State Implementation Plan Revision To Implement the Clean Air Interstate Rule

AGENCY: Environmental Protection Agency (EPA).

ACTION: Final rule.

SUMMARY: EPA is approving a State Implementation Plan (SIP) revision submitted by the State of Massachusetts on March 30, 2007. This revision addresses the requirements of EPA's Clean Air Interstate Rule (CAIR), promulgated on May 12, 2005 and subsequently revised on April 28, 2006 and December 13, 2006. EPA has determined that the SIP revision fully implements the CAIR requirements for Massachusetts. Therefore, as a consequence of the SIP approval, the Administrator of EPA will also, in a separate document, issue a final rule to withdraw the Federal Implementation Plan (FIP) concerning NOX ozone-season emissions for Massachusetts.

In the SIP revision that EPA is approving, Massachusetts will meet CAIR requirements by participating in the EPA-administered cap-and-trade program addressing NOX ozone-season emissions. Massachusetts's SIP revision is based on EPA's model CAIR NOX ozone season rule and is, in most respects, substantively identical to that model rule. The Massachusetts CAIR program has two major substantive differences from that model rule (expanded applicability, and a different methodology for allocating NOX allowances), both of which are consistent with the flexibility allowed under CAIR for state participation in the EPA-administered cap-and-trade program. The SIP revision complies with the statutory and regulatory requirements for approval of a CAIR NOX ozone-season program. This action is being taken in accordance with the Clean Air Act.

EFFECTIVE DATE: This rule is effective on December 3, 2007.

ADDRESSES: EPA has established a docket for this action under Docket Identification No. EPA-R01-OAR-2007-0401. All documents in the docket are listed on the http://www.regulations.gov Web site. Although listed in the index, some information may not be publicly available, i.e., CBI or other information whose disclosure is restricted by statute. Certain other material, such as copyrighted material, is not placed on the Internet and will be publicly available only in hard copy form. Publicly available docket materials are available either electronically through http://www.regulations.gov or in hard copy at the Office of Ecosystem Protection, U.S. Environmental Protection Agency, EPA New England Regional Office, One Congress Street, Suite 1100, Boston, MA. EPA requests that if at all possible, you contact the contact listed in the FOR FURTHER INFORMATION CONTACT section to schedule your inspection. The Regional Office's official hours of business are Monday through Friday, 8:30 a.m. to 4:30 p.m., excluding legal holidays.

Copies of the documents relevant to this action are also available for public inspection during normal business hours, by appointment at Division of Air Quality Control, Department of Environmental Protection, One Winter Street, 8th Floor, Boston, MA 02108.

FOR FURTHER INFORMATION CONTACT: If you have questions concerning today's action, please contact Alison C. Simcox, Air Quality Planning Unit, U.S. Environmental Protection Agency, EPA New England Regional Office, One Congress Street, Suite 1100 (CAQ), Boston, MA 02114-2023, telephone number (617) 918-1684, fax number (617) 918-0684, e-mail simcox.alison@epa.gov.

SUPPLEMENTARY INFORMATION:

Table of Contents

I. What Action Is EPA Taking?

II. What Is the Regulatory History and General Requirements of CAIR and the CAIR FIPs?

III. EPA Analysis of Massachusetts's CAIR SIP Submittal

A. State Budgets for Allowance Allocations

B. CAIR Cap-and-Trade Programs

C. Applicability Provisions for Non-EGU NOX SIP Call Sources

D. NOX Allowance Allocations

E. Individual Opt-in Units

IV. Final Action.

V. When Is This Action Effective?

VI. Statutory and Executive Order Reviews.

I. What Action Is EPA Taking?

EPA is approving a revision to Massachusetts's SIP, submitted on March 30, 2007. This SIP revision includes a new regulation, 310 CMR 7.32, “Massachusetts Clean Air Interstate Rule,” and amendments to existing regulation 310 CMR 7.28, “NOX Allowance Trading Program.” In its SIP revision, Massachusetts will meet CAIR requirements by requiring certain electric generating units (EGUs) to participate in the EPA-administered State CAIR cap-and-trade program addressing NOX ozone-season emissions. EPA has determined that the Massachusetts SIP as revised meets the applicable requirements of CAIR. On August 1, 2007, EPA proposed approval of the Massachusetts SIP (see 72 FR 41970). No public comments were received on EPA's notice of proposed rulemaking (NPR).

As a consequence of the SIP approval, the Administrator of EPA will also, in a separate document, issue a final rule to withdraw the FIP concerning NOX ozone-season emissions for Massachusetts. That action will delete and reserve 40 CFR 52.1140. The withdrawal of the CAIR FIP for Massachusetts is a conforming amendment that must be made once the SIP is approved because EPA's authority to issue the FIP was premised on a deficiency in the SIP for Massachusetts. Once the SIP is fully approved, EPA no longer has authority for the FIP. Thus, EPA will not have the option of maintaining the FIP following the full SIP approval. Accordingly, EPA does not intend to offer an opportunity for a public hearing or an additional opportunity for written public comment on the withdrawal of the FIP.

II. What Is the Regulatory History and General Requirements of CAIR and the CAIR FIPs?

The Clean Air Interstate Rule (CAIR) was published by EPA on May 12, 2005 (70 FR 25162). In this rule, EPA determined that 28 States and the District of Columbia contribute significantly to nonattainment and interfere with maintenance of the national ambient air quality standards (NAAQS) for fine particles (PM2.5) and/or 8-hour ozone in downwind States in the eastern part of the country. As a result, EPA required those upwind States to revise their SIPs to include control measures that reduce emissions of SO2, which is a precursor to PM2.5 formation, and/or NOX, which is a precursor to both ozone and PM2.5 formation. For jurisdictions that contribute significantly to downwind PM2.5 nonattainment, CAIR sets annual State-wide emission reduction requirements (i.e., budgets) for SO2 and annual State-wide emission reduction requirements for NOX. Similarly, for jurisdictions that contribute significantly to 8-hour ozone nonattainment, CAIR sets State-wide emission reduction requirements for NOX for the ozone season (May 1st to September 30th). Under CAIR, States may implement these reduction requirements by participating in the EPA-administered cap-and-trade programs or by adopting other control measures. The first phase of NOX reductions starts in 2009 and continues through 2014, while the first phase of SO2 reductions starts in 2010 and continues through 2014. The second phase of reductions for both NOX and SO2 starts in 2015 and continues thereafter.

More information on the regulatory history and requirements of CAIR and the CAIR FIPs is available in the NPR for this SIP Revision and will not be restated here.

III. EPA Analysis of Massachusetts's CAIR SIP Submittal

A brief summary of EPA's review of Massachusetts's CAIR program is given below. Additional details regarding requirements of Massachusetts's 310 CMR 7.32 regulation and EPA's evaluation of this regulation are detailed in a memorandum dated July 16, 2007, entitled “Technical Support Document (TSD) for revisions to the Massachusetts SIP: 310 CMR 7.32 (‘Massachusetts Clean Air Interstate Rule’)” and in the NPR for this SIP revision. The TSD and Massachusetts's CAIR SIP submittal are available in the docket supporting this action.

A. State Budgets for Allowance Allocations

The CAIR NOX annual and ozone season budgets were developed from historical heat input data for EGUs. Using these data, EPA calculated annual and ozone season regional heat input values, which were multiplied by 0.15 pounds per million British thermal units (lb/mmBtu), for phase 1 of the CAIR program (2009-2014) and by 0.125 lb/mmBtu, for phase 2 of the CAIR program (2015 and thereafter) to obtain regional NOX budgets for 2009-2014 and for 2015 and thereafter, respectively. EPA derived the State NOX annual and ozone season budgets from the regional budgets using State heat input data adjusted by fuel factors. Massachusetts, however, is only required to participate in the CAIR NOX ozone-season program, not the CAIR NOX annual or SO2 trading programs. Therefore, only CAIR NOX ozone-season budgets apply to the Massachusetts CAIR program.

In today's action, EPA is approving Massachusetts's SIP revision of 310 CMR 7.32. This SIP revision adopts the budgets established for the State in CAIR, i.e., 7,551 tons of NOX ozone-season emissions for CAIR phase 1 and 6,293 tons for CAIR phase 2, plus an additional 363 tons of NOX ozone-season emissions for both phases 1 and 2 to account for NOX emissions from “non-EGU” units from the Massachusetts NOX SIP Call trading program (see section III C below). The total NOX ozone-season budget is therefore 7,914 tons of NOX ozone-season emissions for CAIR phase 1 and 6,656 tons for CAIR phase 2. Massachusetts's SIP revision sets this budget as the total number of allowances (with each allowance authorizing one ton of NOX ozone-season emissions) available for allocation for each year under the EPA-administered CAIR cap-and-trade program.

B. CAIR Cap-and-Trade Programs

The CAIR NOX annual and ozone-season model trading rules both largely mirror the structure of the NOX SIP Call model trading rule in 40 CFR part 96, subparts A through I. While the provisions of the NOX annual and ozone-season model rules are similar, there are some differences. For example, the NOX ozone season model rule reflects the fact that the CAIR NOX ozone season trading program replaces the NOX SIP Call trading program after the 2008 ozone season and is coordinated with the NOX SIP Call program. The NOX ozone season model rule provides incentives for early emissions reductions by allowing banked, pre-2009 NOX SIP Call allowances to be used for compliance in the CAIR NOX ozone-season trading program. In addition, States have the option of continuing to meet their NOX SIP Call requirement by participating in the CAIR NOX ozone season trading program and including all their NOX SIP Call trading sources in that program.

In the SIP revision, Massachusetts will implement its CAIR budgets by requiring EGUs (as well as “non-EGUs” from its NOX SIP Call trading program, as discussed below) to participate in EPA-administered cap-and-trade programs for NOX ozone-season emissions. Massachusetts has adopted a full SIP revision that adopts, with certain allowed changes discussed below, the CAIR model cap-and-trade rules for NOX ozone-season emissions.

C. Applicability Provisions for Non-EGU NOX SIP Call Sources

In general, the CAIR model trading rules apply to any stationary, fossil-fuel-fired boiler or stationary, fossil-fuel-fired combustion turbine serving at any time, since the later of November 15, 1990 or the start-up of the unit's combustion chamber, a generator with nameplate capacity of more than 25 MWe producing electricity for sale.

States have the option of bringing in, for the CAIR NOX ozone-season program only, those units in the State's NOX SIP Call trading program that are not EGUs as defined under CAIR (herein called “non-EGUs”). Under this option, the CAIR NOX ozone-season program must cover all large industrial boilers and combustion turbines, as well as any small EGUs (i.e. units serving a generator with a nameplate capacity of 25 MWe or less) that the State currently requires to be in the NOX SIP Call trading program.

Massachusetts has chosen to expand the applicability provisions of the CAIR NOX ozone season trading program to include all units in the State's NOX SIP Call trading program. Units in the Massachusetts NOX SIP Call trading program include units that burn more than 50-percent fossil fuel and that have a maximum heat-input capacity of 250 million British thermal units (MMBtu) or more, or serve a generator with a nameplate capacity of 15 MWe or more. These units are included in the Massachusetts NOX SIP Call trading program whether or not they produce electricity for sale, and will be included in the Massachusetts CAIR program beginning with the control period in 2009. EPA has determined that Massachusetts 310 CMR 7.32 includes the allowable CAIR applicability provisions relating to adding all NOX SIP Call trading program units to the Massachusetts CAIR NOX ozone season program.

D. NOX Allowance Allocations

Under the NOX allowance-allocation methodology in the CAIR model trading rules and in the CAIR FIP, NOX annual and ozone-season allowances are allocated to units that have operated for five years (i.e., “existing units”), based on heat input data from a three-year period that are adjusted for fuel type by using fuel factors of 1.0 for coal, 0.6 for oil, and 0.4 for other fuels. The CAIR model trading rules and the CAIR FIP also provide a new unit set-aside from which units without five years of operation are allocated allowances based on the units' prior year emissions.

States may establish in their SIP submissions a different NOX allowance-allocation methodology that will be used to allocate allowances to sources in the States if certain requirements are met concerning the timing of submission of units' allocations to the Administrator for recordation and the total amount of allowances allocated for each control period. In adopting alternative NOX allowance-allocation methodologies, States have flexibility with regard to:

1. The cost to recipients of the allowances, which may be distributed for free or auctioned;

2. The frequency of allocations;

3. The basis for allocating allowances, which may be distributed, for example, based on historical heat input or electric and thermal output; and

4. The use of allowance set-asides and, if used, their size.

Massachusetts has chosen to replace the provisions of the CAIR NOX ozone-season model trading rule concerning allowance allocations with its own methodology. Massachusetts's CAIR program codified at 310 CMR 7.32 distributes NOX ozone-season allowances based upon historical electric and thermal output, rather than heat input. Massachusetts also provides a percentage of allowances for Public Benefit and new unit set-asides.

Massachusetts's CAIR program includes both a Public Benefit set-aside (PBSA) to encourage Energy Efficiency Projects (EEPs) and Renewable Energy Projects (REPs), and a new unit set-aside to allow for addition of new units. Both of these types of set-asides were included in the State's NOX SIP Call trading program.

Massachusetts has set a new unit set-aside at 5 percent of the State's CAIR budget for both phases of the CAIR program. Therefore, the new unit set-aside includes 396 CAIR NOX ozone-season allowances during CAIR phase 1 (2009-2014), and 333 allowances during CAIR phase 2 (2015 and thereafter). Massachusetts has set a PBSA at 10 percent of the State's CAIR budget for both phases of the CAIR program. Therefore, the PBSA includes 791 CAIR NOX ozone-season allowances during CAIR phase 1 (2009-2014), and 666 allowances during CAIR phase 2 (2015 and thereafter). Information on the Banking and Transferring of Set-Asides in the Massachusetts CAIR program is available in the NPR and will not be restated here.

Massachusetts has chosen to replace the provisions of the CAIR NOX ozone-season model trading rule concerning allowance allocations with a methodology similar to that used in the Massachusetts NOX SIP Call trading program. This methodology, which is based on energy output, allocates allowances to existing units and, to the extent possible, to new units based on their steam and/or electricity output. More details on Massachusetts's methodology for allocating CAIR allowances, as well as information on Massachusetts CAIR permits and requirements for facilities to report emissions data, can be found in the TSD and the NPR and will not be restated here.

E. Individual Opt-in Units

The Massachusetts CAIR SIP does not include opt-in provisions because the State has chosen to allocate CAIR allowances using an energy-output methodology that cannot be used for opt-in sources under the model CAIR NOX ozone-season trading rule. The Massachusetts NOX SIP Call trading program (310 CMR 7.28), however, does allow for opt-in sources (although no sources have opted into this program to date). Therefore, sources that wish to be part of the Massachusetts CAIR program can take advantage of the opt-in provisions of the State's NOX SIP Call program until the end of 2008. Beginning with the 2009 ozone season, the NOX SIP Call program will be replaced by the State's CAIR Program, and no further opt-in units will be allowed.

IV. Final Action

EPA is approving state regulations 310 CMR 7.32 (“Massachusetts CAIR”) and amendments to 310 CMR 7.28 (“NOX Allocation Trading Program”) as a revision to the Massachusetts SIP. Under this SIP revision, Massachusetts will participate in the EPA-administered cap-and-trade program for NOX ozone-season emissions. The SIP revision meets the applicable requirements in 40 CFR 51.123(o) and (aa), with regard to NOX ozone season emissions. EPA has determined that the SIP as revised meets the requirements of CAIR. As a consequence of the SIP approval, the Administrator of EPA will also issue, without providing an opportunity for a public hearing or an additional opportunity for written public comment, a final rule to withdraw the CAIR FIP concerning NOX ozone-season emissions for Massachusetts. That action will delete and reserve 40 CFR 52.1140 in Part 52.

V. When Is This Action Effective?

EPA finds that there is good cause for this approval to become effective on the date of publication of this action in the Federal Register, because a delayed effective date is unnecessary due to the nature of the approval, which allows the State to make allocations under its CAIR rules. The expedited effective date for this action is authorized under both 5 U.S.C. 553(d)(1), which provides that rule actions may become effective less than 30 days after publication if the rule ”grants or recognizes an exemption or relieves a restriction” and 5 U.S.C. 553(d)(3), which allows an effective date less than 30 days after publication ”as otherwise provided by the agency for good cause found and published with the rule.” CAIR SIP approvals exempt states and CAIR sources within states from being subject to allowance allocation provisions in the CAIR FIPs that otherwise would apply, allowing States to make their own allowance allocations based on their SIP-approved State rule. The exemption from these obligations is sufficient reason to allow an expedited effective date of this rule under 5 U.S.C. 553(d)(1). In addition, Massachusetts's exemption from these obligations provides good cause to make this rule effective on the date of publication of this action in the Federal Register, pursuant to 5 U.S.C. 553(d)(3). The purpose of the 30-day waiting period prescribed in 5 U.S.C. 553(d) is to give affected parties a reasonable time to adjust their behavior and prepare before the final rule takes effect. Where, as here, the final rule grants an exemption rather than imposing obligations, and where the effect of the final rule is simply to approve for Federal purposes obligations that are already effective under state law, affected parties, such as the State of Massachusetts and CAIR sources within the State, do not need time to adjust and prepare before the rule takes effect.

VI. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 “Protection of Children from Environmental Health Risks and Safety Risks” (62 FR 19885, April 23, 1997), because it approves a state rule implementing a Federal standard.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by February 1, 2008. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Electric utilities, Incorporation by reference, Intergovernmental relations, Nitrogen oxides, Ozone, Particulate matter, Reporting and recordkeeping requirements, Sulfur dioxide.

Dated: November 5, 2007.
Robert W. Varney,
Regional Administrator, EPA New England.

Part 52 of chapter I, title 40 of the Code of Federal Regulations is amended as follows:

PART 52—[AMENDED]

1. The authority citation for part 52 continues to read as follows:

Authority: 42 U.S.C. 7401 et seq.

Subpart W—Massachusetts

2. Section 52.1120 is amended by adding and reserving paragraphs (c)(133) and (c)(134) and by adding paragraph (c)(135) to read as follows:

§ 52.1120 Identification of plan.

* * * * *

(c) * * *

(133) [Reserved]

(134) [Reserved]

(135) Revisions to the State Implementation Plan submitted by the Massachusetts Department of Environmental Protection on March 30, 2007.

(i) Incorporation by reference.

(A) 310 CMR 7.32 entitled “Massachusetts Clean Air Interstate Rule (Mass CAIR),” effective in the Commonwealth of Massachusetts on May 4, 2007.

(B) Amendments to 310 CMR 7.28 entitled “NOX Allowance Trading Program,” effective in the Commonwealth of Massachusetts on May 4, 2007.

(C) Massachusetts Regulation Filing, dated April 19, 2007, amending 310 CMR 7.28 entitled “NOX Allowance Trading Program,” and adopting 310 CMR 7.32 entitled “Massachusetts Clean Air Interstate Rule (Mass CAIR).”

3. In § 52.1167, Table 52.1167 is amended by adding two new entries to existing state citation for 310 CMR 7.28; and by adding a new state citation and entry for 310 CMR 7.32 in numerical order to read as follows:

§ 52.1167 EPA-approved Massachusetts State regulations.

* * * * *

Table 52.1167.—EPA-Approved Rules and Regulations
State citation | Title/subject | Date submitted by State | Date approved by EPA | Federal Register citation | 52.1120(c) | Comments/unapproved sections
* * * * * * *
310 CMR 7.28 | NOX Allowance Trading Program | 03/30/07 | [12/3/07] | [Insert Federal Register page number where the document begins] | 135 |
|  | 03/30/07 | [12/3/07] | [Insert Federal Register page number where the document begins] | 135 | Massachusetts Regulation Filing, dated April 19, 2007, substantiating May 4, 2007, State effective date for amended 310 CMR 7.28 “NOX Allowance Trading Program.”
* * * * * * *
310 CMR 7.32 | Massachusetts Clean Air Interstate Rule (Mass CAIR) | 03/30/07 | [12/3/07] | [Insert Federal Register page number where the document begins] | 135 |
|  | 03/30/07 | [12/3/07] | [Insert Federal Register page number where the document begins] | 135 | Massachusetts Regulation Filing, dated April 19, 2007, substantiating May 4, 2007, State effective date for adopted 310 CMR 7.32 “Massachusetts Clean Air Interstate Rule (Mass CAIR).”
* * * * * * *
Notes:
1. This table lists regulations adopted as of 1972. It does not depict regulatory requirements which may have been part of the Federal SIP before this date.
2. The regulations are effective statewide unless otherwise stated in comments or title section.

[FR Doc. E7-23246 Filed 11-30-07; 8:45 am]

BILLING CODE 6560-50-P